Title 3—

The President

Delegation of Responsibilities Under the Frank R. Wolf International Religious Freedom Act of 2016

Memorandum for the Secretary of State

By the authority vested in me by the Constitution and the laws of the United States of America, including section 301 of title 3 of the United States Code, I hereby delegate to the Secretary of State the functions and authorities vested in the President by section 301 of the Frank R. Wolf International Religious Freedom Act (Public Law 114-281) (the “Act”).

This memorandum's reference to the Act shall be deemed to be a reference to the Act as amended from time to time.

You are authorized and directed to publish this memorandum in the Federal Register.

THE WHITE HOUSE,

Washington, January 9, 2018

[FR Doc. 2018-01709

Filed 1-25-18; 11:15 am]

Billing code 4710-10-P